DEPARTMENT OF COMMERCE

International Trade Administration

[Docket No. 011123281-1281-01]

Special American Business Internship Training Program (SABIT) Grants Funding Availability

AGENCY: International Trade Administration, U.S. Department of Commerce.

ACTION: Notice.

SUMMARY: This Notice announces availability of funds for the Special American Business Internship Training Program (SABIT), for training business executives and scientists (also referred to as “interns”) from the New Independent States (NIS).

DATES: This notice is effective as of December 17, 2001. The closing date for applications is March 1, 2002. If available funds are depleted prior to the closing date, a notice to that effect will be published in the Federal Register. Processing of complete applications takes approximately three to four months. All awards are expected to be made by July 1, 2002.

ADDRESSES: Request for Applications: Competitive Application kits will be available from ITA starting on the day this notice is published. To obtain a copy of the Application Kit please contact SABIT by: (1) E-mail at SABITApply@ita.doc.gov, providing your name, company name and address; (2) Telephone (202) 482-0073; (3) The world wide web at www.mac.doc.gov/sabit/sabit.html; (4) Facsimile (202) 482-2443; (5) Mail: Send a written request with two self-addressed mailing labels to Application Request, The SABIT Program, U.S. Department of Commerce, [FCB]—Fourth Floor—4100W, 1401 Constitution Avenue, NW., Washington, DC, 20230. The telephone numbers are not toll free numbers. Only one copy of the Application Kit will be provided to each organization requesting it, but it may be reproduced by the requesters.

FOR FURTHER INFORMATION CONTACT: Liesel C. Duhon, Director, SABIT Program, U.S. Department of Commerce, phone—(202) 482-0073, facsimile—(202) 482-2443. These are not toll free numbers.

SUPPLEMENTARY INFORMATION:

Authority: 22 U.S.C. 2395 (b).

Catalog of Federal Domestic Assistance (CFDA): 11.114—Special American Business Internship Training Program.

Program Description

The Department of Commerce, International Trade Administration (ITA) established the SABIT program in September 1990 to assist the former Soviet Union's transition to a market economy. Since that time, SABIT has been supporting U.S. companies that wish to provide business executives and scientists from the NIS three-to six-month programs of hands-on training in a U.S. market economy.

Under the SABIT program, qualified U.S. firms will receive funds through a cooperative agreement with ITA to help defray the cost of hosting interns. The training must take place in the United States. ITA will interview NIS managers or scientists nominated by participating U.S. companies, or assist in identifying eligible candidates. Interns may be from any of the following Independent States: Armenia, Azerbaijan, Belarus, Georgia, Kazakhstan, Kyrgyzstan, Moldova, Russia, Tajikistan, Turkmenistan, Ukraine, and Uzbekistan. However, specific restrictions may apply. The U.S. firms will be expected to provide the interns with a hands-on, non-academic, executive training program designed to maximize their exposure to management or commercially-oriented scientific operations. At the end of the training program, interns must return to the NIS. If there is any evidence of a conflict of interest between an intern and the company, the intern is disqualified.

SABIT exposes NIS business managers and scientists to a completely new way of thinking in which demand, consumer satisfaction, and profits drive production. Senior-level interns visiting the U.S. for internship programs with public or private sector companies will be exposed to an environment which will provide them with practical knowledge for transforming their countries' enterprises and economies to the free market. The program provides first-hand, eye-opening experience to managers and scientists which cannot be duplicated by American managers traveling to their territories.

Managers: SABIT assists economic restructuring in the NIS by providing top-level business managers with practical training in American methods of innovation and management in such areas as strategic planning, financing, production, distribution, marketing, accounting, wholesaling, and/or labor relations. This first-hand experience in the U.S. economy enables interns to become leaders in establishing and operating a market economy in the NIS, and creates a unique opportunity for U.S. firms to familiarize key executives from the NIS with their products and services. Sponsoring U.S. firms will benefit by establishing relationships with key managers in similar industries who are uniquely positioned to assist their U.S. sponsors do business in the Independent States.

Scientists: SABIT provides opportunities for gifted scientists to apply their skills to peaceful research and development in the civilian sector, in areas such as defense conversion, medical research, and the environment, and exposes them to the role of scientific research in a market economy where applicability of research relates to business success. Sponsoring firms in the U.S. scientific community also benefit from exchanging information and ideas, and different approaches to new technologies.

All internships are three to six months; however, ITA reserves the right to allow an intern to stay for a shorter period of time (no less than one month) if the U.S. company agrees and the intern demonstrates a need for a shorter internship based on his or her management responsibilities. ITA will reimburse companies for the round trip international travel (coach class tickets) of each intern from the intern's home city in the NIS to the U.S. internship site, upon submission of the paid travel invoice, payment receipt, or other evidence of payment and the form SF-270, “Request for Advance or Reimbursement.” Travel under the program is subject to the Fly America Act. Recipient firms provide directly to interns a stipend of $34 a day. Recipient firms will be reimbursed for this stipend, up to a maximum of six months, upon the submission of an end-of-internship report and Standard Form SF-270, Request for Advance and/or Reimbursement. Interns must return to their home countries immediately upon completion of their U.S. internships. Recipient firms will provide housing for the interns and will be reimbursed for up to $500 per month for housing costs (not including utilities or telephone service charges), upon the submission of the end-of-internship report and Standard Form SF-270. For cities with higher costs of living, up to $750.00 may be reimbursed. In either case, sufficient proof of the actual cost of similar housing in the local area must be provided. In general, each award will have a cap of $13,700 per intern for total cost of airline travel, stipend and housing costs. ITA reserves the right to allow an award to exceed this cap in cases of unusually high costs, specifically airfare from remote regions of the NIS such as Central Asia and the Caucasus. However, the total reimbursement cannot exceed the award amount. There are no specific matching requirements for the awards. Recipient firms, however, are expected to bear the costs beyond those covered by the award, including: visa fees, insurance, any food and incidentals costs beyond the $34 per day stipend, training manuals, additional lodging costs beyond the reimbursed amount, any training-related travel within the U.S., and provision of the hands-on training for the interns.

U.S. firms wishing to utilize SABIT in order to be matched with an intern without applying for financial assistance may do so. Such firms will be responsible for all costs, including travel expenses, related to sponsoring the intern. However, prior to acceptance as a SABIT intern, work plans and candidates must be approved by the SABIT Program. Furthermore, program training will be monitored by SABIT staff and evaluated upon completion of training.

ITA does not guarantee that it will match Applicants with the profile provided to SABIT.

Funding Availability

Pursuant to section 632(a) of the Foreign Assistance Act of 1961, as amended (the “Act”) funding for the program will be provided by the United States Agency for International Development (A.I.D). ITA will award financial assistance and administer the program pursuant to the authority contained in section 635(b) of the Act and other applicable grant rules. The estimated amount of financial assistance available for the program is $1,500,000. Additional funding may become available at a future date.

Matching Requirements

There are no specific matching requirements.

Funding Instrument

Federal assistance will be awarded pursuant to a cooperative agreement between DOC and the recipient firm.

Eligibility Criteria

Eligible applicants for the SABIT program will include all for profit or non-profit U.S. corporations, associations, organizations or other public or private entities located in the United States. Agencies or divisions of the federal government are not eligible. However, state and local governments are eligible.

Award Period

Funds will be available effective with the publication of this notice. The funds will remain available until they are expended. Recipient firms will have one year from the date listed on the Financial Assistance Award, CD-450, in order to use the funds. However, DOC reserves the right to allow an extension if the recipient can justify the need for extra time. If applicants incur any costs prior to an award being made, they do solely at their own risk of not being reimbursed by the Government. Notwithstanding any verbal or written assurance that may have been received, there is no obligation on the part of DOC to cover pre-award costs.

Evaluation Criteria

Consideration for financial assistance will be given to those SABIT proposals which:

(1) Present a realistic work plan describing in detail the training program to be provided to the SABIT intern(s). Work plans must include the proposed internship training activities. The components of the training activities must be described in as much detail as possible, preferably on a week-by-week basis. The description of the training activities should include an account of what the intern's(s') duties and responsibilities will be during the training. Please note, if you are coordinating an internship which will take place at several companies, you must provide a workplan for each company.

(2) Demonstrate a commitment to the intent and goals of the program to provide practical, on-the-job, non-academic, non-classroom, training: in the case of manager interns, an appropriate management training experience, or, in the case of scientist interns, a practical, commercially-oriented scientific training experience. Include a brief objectives section indicating why the Applicant wishes to provide an internship to a manager(s) or scientist(s) from the NIS, and how the proposed internship would further the purpose of the SABIT program as described above. Also, the Applicant should note how the internship to be provided will respond to the priority needs of senior business managers and scientists in the NIS.

(3) Provide fully the following information: (a) Whether Applicant is applying to host managers or scientists, or both (and the number of each); (b) Whether potential intern candidate(s) is(are) employed in priority industries, and which one(s); (c) The duration of the internship; (d) The location(s) of the internship; (e) The name, address, and telephone number of the application's preparer and the name, address, and telephone number of the designated internship coordinator; (f) Name(s) of division(s) in which the intern(s) will be placed; (g) The individual(s) in the U.S. company under whose supervision the intern will train; (h) The anticipated housing arrangements to be provided for the intern(s). Note that housing arrangements should be suitable for mid- and senior-level professionals, and that each intern must be provided with a private room; (i) A statement that the host firm is solidly committed to interns' return to their own countries upon completion of the internships.

(4) Provide a general description of the profile of the intern(s) the Applicant would like to host, including: educational background; occupational/professional background (including number of years and areas of experience); size and nature of organization at which the intern(s) is/are presently employed; preference for the region of the NIS where the intern(s) is/are employed; and whether Applicant is open to sponsoring interns from a variety of NIS countries. If the U.S. company is nominating an intern candidate, please provide a resume for said candidate. Evaluation criteria are listed in decreasing importance. That is, evaluation criterion 1 is most important, followed by criterion 2, etc.

Project Funding Priorities

Applicant proposal must provide an explanation, including description and extent of involvement, in priority business sector(s). While Applicants involved in any industry sector may apply to the program, priority consideration is given to those operating in the following sectors: (a) Agribusiness (including food processing and distribution, and agricultural equipment), (b) Defense conversion, (c) Energy, (d) Environment (including environmental clean-up), (e) Financial services (including banking and accounting), (f) Housing, construction and infrastructure, (g) Medical equipment, supplies, pharmaceuticals, and health care management, (h) Product standards and quality control, (i) Telecommunications, (j) Transportation and (k) Biotechnology.

Selection Procedures

Each application will receive an independent, objective review by one or more three or four-member independent review panels qualified to evaluate applications submitted under the program. Applications will be evaluated on a competitive, “rolling” basis as they are received in accordance with the selection evaluation set forth above. Awards will be made to those applications which successfully meet the selection criteria. If funds are not available for all those applications which successfully meet the criteria, awards will be made to the first applications received which successfully do so. ITA reserves the right to reject any application; to limit the number of interns per applicant; and to waive informalities and minor irregularities in applications received. The final selecting official reserves the right to make awards based on U.S. geographic and organization size diversity among applicants, as well as to consider priority business sectors (listed in Project Funding Priorities, above) when making awards. Recipients may be eligible, pursuant to approval of an amendment of an active award, to host additional interns under the program. ITA reserves the right to evaluate applicants based on past performance. The Director of the SABIT Program is the final selecting official for each award.

Intergovernmental Review

Applications under this program are not subject to Executive Order 12372, “Intergovernmental Review of Federal Programs.”

Application Forms and Kit

To obtain an application kit, please refer to the section above marked Addresses. All applicants must submit a completed Standard Form 424, “Application for Federal Assistance” and a Standard Form 424B, “Assurances—Non-Construction Programs.” All applicants must also submit a completed Form CD-511, “Certifications Regarding Debarment, Suspension and Other Responsibility Matters; Drug-Free Workplace Requirements and Lobbying”. Form CD-511 and Standard Forms 424 and 424B are included in the Application Kit supplied by the SABIT office. Applicants will also need to provide the information to fulfill the “Evaluation Criteria” listed above.

An original and two copies of the application (including Standard Form 424 (Rev. 4-92) and supplemental material) are to be sent to the address designated in the Application Kit and postmarked no later than the closing date. Please sign the original application (including forms) with blue ink. Applications will be considered on a “rolling” basis as they are received, subject to the availability of funds.

Additional Information: Applicants must also submit: (1) Evidence of adequate financial resources of Applicant organization to cover the costs involved in providing an internship(s). As evidence of such resources, Applicant should submit financial statements audited by an outside organization or an annual report including such statements. If these are not available, a letter should be provided from the Applicant's bank or outside accountant attesting to the financial capability of the firm to undertake the scope of work involved in training an intern under the SABIT program.

(2) Evidence of a satisfactory record of performance in grants, contracts and/or cooperative agreements with the Federal Government, if applicable. (Applicants who are or have been deficient in current or recent performance in their grants, contracts, and/or cooperative agreements with the Federal Government shall be presumed to be unable to meet this requirement). (3) A statement that the Applicant will provide medical insurance coverage for interns during their internships. Recipients will be required to submit proof of the interns' medical insurance coverage to the Federal Program Officer before the interns' arrivals. The insurance coverage must include an accident and comprehensive medical insurance program as well as coverage for accidental death, emergency medical evacuation, and repatriation.

Disposition of Unsuccessful Applications

Unsuccessful applications may be retained or destroyed by the SABIT Program.

Other Requirements

Department of Commerce Pre-Award Notification Requirements for Grants and Cooperative Agreements, which are contained in Federal Register Notice of October 1, 2001 (66 FR 49917), are applicable.

All applicants are advised of the following:

1. Participating companies will be required to comply with all relevant U.S. tax and export regulations. Export controls may relate not only to licensing of products for export, but also to technical data transfer. The U.S. Department of Commerce's Bureau of Export Administration (BXA) reviews applications in question to determine whether export licenses are required. SABIT will not award a grant until the export license issue has been satisfied.

2. The following statutes apply to this program: Section 907 of the FREEDOM Support Act, Public Law 102-511, 22 U.S.C. 5812 note (Restriction on Assistance to the Government of Azerbaijan); 7 U.S.C. 5201 et seq. (Agricultural Competitiveness and Trade—the Bumpers Amendment); The Foreign Assistance Act of 1961, as amended, including Chapter 11 of Part I, section 498A(b), Public Law 102-511, 22 U.S.C. 2295a(b) (regarding ineligibility for assistance); 22 U.S.C. 2420(a), Section 660(a) of The Foreign Assistance Act of 1961, as amended (Police Training Prohibition); and provisions in the annual Foreign Operations, Export Financing, and Related Programs Appropriations Acts, concerning impact on jobs in the United States (see, e.g., 536 of Public Law 106-113).

3. The collection of information is approved by the Office of Management and Budget, OMB Control Number 0625-0225. Public reporting for this collection of information is estimated to be three hours per response, including the time for reviewing instructions, and completing and reviewing the collection of information. All responses to this collection of information are voluntary, and will be protected from disclosure to the extent allowed under the Freedom of Information Act. The use of Standard Forms 424 and 424B is approved under OMB Control Numbers 0348-0043 and 0348-0040, respectively.

Notwithstanding any other provision of law, no person is required to respond to nor shall a person be subject to the requirements of the Paperwork Reduction Act unless that collection of information displays a currently valid OMB Control Number. Send comments regarding the burden estimate or any other aspect of this collection of information, including suggestions for reducing this burden, to the Reports Clearance Officer, International Trade Administration, Department of Commerce, Room 4001, 14th and Constitution Ave., NW., Washington, DC 20230.

4. Executive Order 12866: It has been determined that this notice is not significant for purposes of E.O. 12866.

5. Executive Order 13132: It has been determined that this notice does not contain policies with Federalism implications as that term is defined in E.O. 13132.

Because notice and comment are not required under 5 U.S.C. 553, or any other law, for notices relating to public property, loans, grants, benefits or contracts (5 U.S.C. 553(a)), a Regulatory Flexibility Analysis is not required and has not been prepared for this notice, 5 U.S.C. 601 et seq.

Dated: December 7, 2001.
Liesel C. Duhon,
Director, SABIT Program.

[FR Doc. 01-30780 Filed 12-12-01; 8:45 am]

BILLING CODE 3510-HE-P